SECURITIES AND EXCHANGE COMMISSION

Issuer Delisting; Notice of Application To Withdraw From Listing and Registration; (Cablevision Systems Corporation, Class A Common Stock, Par Value $.01 per Share) File No. 1-14764

February 16, 2000.

Cablevision Systems Corporation (“Company”) has filed an application with the Securities and Exchange Commission (“Commission”), pursuant to Section 12(d) of the Securities Exchange Act of 1934 (“Act”)¹ and Rule 12d2-2(d) thereunder,² to withdraw the security specified above (“Security”) from listing and registration on the American Stock Exchange LLC (“Amex”).

¹ 15 U.S.C. 78l(d).

² 17 CFR 240.12d2-2(d).

The Security has been listed for trading on the Amex and became listed as well on the New York Stock Exchange, Inc. (“NYSE”), pursuant to a Registration Statement on Form 8-A filed with the Commission which became effective on December 3, 1999. Trading in the Security on the NYSE commenced, and was simultaneously suspended on the Amex, at the opening of business on December 7, 1999.

The Company has complied with Amex Rule 18 by filing with the Amex a certified copy of the preambles and resolutions adopted by the Company's Board of Directors authorizing the withdrawal of its Security from listing and registration on the Amex and by setting forth in detail to the Amex the reasons for such proposed withdrawal and the facts in support thereof. The Amex has in turn informed the Company that it has no objection to the proposed withdrawal of the Company's Security from listing and registration on the Amex.

In making the decision to withdraw the Security from listing on the Amex in conjunction with its new listing on the NYSE, the Company hopes the NYSE listing will provide better marketplace visibility for its Security than did the Amex.

The Company's application relates solely to the withdrawal of the Security from listing and registration on the Amex and shall have no effect upon the Security's continued listing and registration on the NYSE. By reason of Section 12(b) of the Act ³ and the rules and regulations of the Commission thereunder, the Company shall continue to be obligated to file reports with the Commission under Section 13 of the Act.⁴

³ 15 U.S.C. 78l(b).

⁴ 15 U.S.C. 78m.

Any interested person may, on or before March 9, 2000, submit by letter to the Secretary of the Securities and Exchange Commission, 450 Fifth Street, N.W., Washington, D.C. 20549-0609, facts bearing upon whether the application has been made in accordance with the rules of the exchange and what terms, if any, should be imposed by the Commission for the protection of investors. The Commission, based on the information submitted to it, will issue an order granting the application after the date mentioned above, unless the Commission determines to order a hearing on the matter.

For the Commission, by the Division of Market Regulation, pursuant to delegated authority.⁵

⁵ 17 CFR 200.30-3(a)(1).

Margaret H. McFarland,
Deputy Secretary.

[FR Doc. 00-4418 Filed 2-24-00; 8:45 am]

BILLING CODE 8010-01-M